DEPARTMENT OF HOMELAND SECURITY

Citizenship and Immigration Services

[CIS No. 2488-09; DHS Docket No. USCIS 2010-0031]

RIN 1615-ZA94

Extension of the Designation of Nicaragua for Temporary Protected Status and Automatic Extension of Employment Authorization Documentation for Nicaraguan TPS Beneficiaries

AGENCY: U.S. Citizenship and Immigration Services, Department of Homeland Security (DHS).

ACTION: Notice.

SUMMARY: This Notice announces that the Secretary of Homeland Security (Secretary) has extended the designation of Nicaragua for temporary protected status (TPS) for 18 months from its current expiration date of July 5, 2010, through January 5, 2012. This Notice also sets forth procedures necessary for nationals of Nicaragua (or aliens having no nationality who last habitually resided in Nicaragua) with TPS to re-register and to apply for an extension of their employment authorization documents (EADs) with U.S. Citizenship and Immigration Services (USCIS). Re-registration is limited to persons who previously registered for TPS under the designation of Nicaragua and whose applications have been granted or remain pending. Certain nationals of Nicaragua (or aliens having no nationality who last habitually resided in Nicaragua) who have not previously applied for TPS may be eligible to apply under the late initial registration provisions.

New EADs with a January 5, 2012, expiration date will be issued to eligible TPS beneficiaries who timely re-register and apply for EADs. Given the timeframes involved with processing TPS re-registration applications, the Department of Homeland Security recognizes the possibility that all re-registrants may not receive new EADs until after their current EADs expire on July 5, 2010. Accordingly, this Notice automatically extends the validity of EADs issued under the TPS designation of Nicaragua for 6 months, through January 5, 2011, and explains how TPS beneficiaries and their employers may determine which EADs are automatically extended.

DATES: The extension of the TPS designation of Nicaragua is effective July 6, 2010, and will remain in effect through January 5, 2012. The 60-day re-registration period begins May 5, 2010, and will remain in effect until July 6, 2010.

FOR FURTHER INFORMATION CONTACT:

• For further information on TPS, including guidance on the application process and additional information on eligibility, please visit the USCIS Web site at http://www.uscis.gov. Select “Temporary Protected Status” from the homepage. You can find detailed information about this TPS extension on our Web site at the Nicaraguan Questions & Answers Section.

• You can also contact the TPS Operations Program Manager, Status and Family Branch, Service Center Operations Directorate, U.S. Citizenship and Immigration Services, Department of Homeland Security, 20 Massachusetts Avenue, NW., Washington, DC 20529-2060, telephone (202) 272-1533. This is not a toll-free call. Note: The phone number provided here is solely for questions regarding this TPS notice. It is not for individual case status inquiries. Applicants seeking information about the status of their individual cases can check Case Status Online available at the USCIS Web site at http://www.uscis.gov, or call the USCIS National Customer Service Center at 1-800-375-5283 (TTY 1-800-767-1833).

• Further information will also be available at local USCIS offices upon publication of this Notice.

SUPPLEMENTARY INFORMATION:

Abbreviations and Terms Used in This Document

Act—Immigration and Nationality Act

DHS—Department of Homeland Security

DOS—Department of State

EAD—Employment Authorization Document

OSC—U.S. Department of Justice, Office of Special Counsel for Immigration Related Unfair Employment Practices

PRRAC—European Union's Regional Program for the Reconstruction of Central America

Secretary—Secretary of Homeland Security

TPS—Temporary Protected Status

USCIS—U.S. Citizenship and Immigration Services

What is Temporary Protected Status?

• TPS is an immigration status granted to eligible nationals of a country designated for TPS under the Act (or to persons without nationality who last habitually resided in the designated country).

• During the period for which the Secretary has designated a country for TPS, TPS beneficiaries are eligible to remain in the United States and may obtain work authorization, so long as they continue to meet the terms and conditions of their TPS status.

• The granting of TPS does not lead to permanent resident status.

• When the Secretary terminates a country's TPS designation, beneficiaries return to the same immigration status they maintained before TPS (unless that status has since expired or been terminated) or to any other status they may have obtained while registered for TPS.

What authority does the Secretary of Homeland Security have to extend the designation of Nicaragua for TPS?

Section 244(b)(1) of the Immigration and Nationality Act (the Act), 8 U.S.C. 1254a(b)(1), authorizes the Secretary, after consultation with appropriate agencies of the government, to designate a foreign State (or part thereof) for TPS.¹ The Secretary may then grant TPS to eligible nationals of that foreign State (or aliens having no nationality who last habitually resided in that State). Section 244(a)(1)(A) of the Act, 8 U.S.C. 1254a(a)(1)(A).

¹ As of March 1, 2003, in accordance with section 1517 of title XV of the Homeland Security Act of 2002 (HSA), Public Law 107-296, 116 Stat. 2135, any reference to the Attorney General in a provision of the Immigration and Nationality Act describing functions transferred under the HSA from the Department of Justice to the Department of Homeland Security “shall be deemed to refer to the Secretary” of Homeland Security. See 6 U.S.C. 557 (2003) (codifying HSA, tit. XV, sec. 1517).

At least 60 days before the expiration of a TPS designation, the Secretary, after consultation with appropriate agencies of the government, must review the conditions in a foreign State designated for TPS to determine whether the conditions for the TPS designation continue to be met and, if so, must determine the length of an extension of the TPS designation. Section 244(b)(3)(A), (C) of the Act, 8 U.S.C. 1254a(b)(3)(A), (C). If the Secretary determines that the foreign State no longer meets the conditions for the TPS designation, the Secretary must terminate the designation. Section 244(b)(3)(B) of the Act, 8 U.S.C. 1254a(b)(3)(B).

When was Nicaragua designated for TPS?

On January 5, 1999, the Attorney General designated Nicaragua for TPS based on an environmental disaster within that country, specifically the devastation resulting from Hurricane Mitch. 64 FR 526. See section 244(a)(b)(1)(B) of the Act, 8 U.S.C. 1254a(b)(1)(B). The last extension of TPS for Nicaragua was announced on October 1, 2008, based on the Secretary's determination that the conditions warranting the designation continued to be met. 73 FR 57138. This announcement is the ninth extension of TPS for Nicaragua.

Why is the Secretary extending the TPS designation for Nicaragua through January 5, 2012?

Over the past year, DHS and the Department of State (DOS) have continued to review conditions in Nicaragua. Based on this review, and after consulting with the Department of State, the Secretary has determined that an 18-month extension is warranted because there continues to be a substantial, but temporary, disruption of living conditions in Nicaragua resulting from Hurricane Mitch, and Nicaragua remains unable, temporarily, to adequately handle the return of its nationals.

Hurricane Mitch resulted in the loss of thousands of lives, displacement of thousands more, collapse of physical infrastructure, and severe damage to the country's economic system. See 64 FR 526 (Jan. 5, 1999) (discussing devastation caused by Hurricane Mitch). The government and people of Nicaragua continue to rely heavily on international assistance, and recovery from Hurricane Mitch is still incomplete.

Nicaragua has not fully recovered from Hurricane Mitch. The regions most devastated by Hurricane Mitch, the mountainous north and the isolated Atlantic coast, continue to be the poorest and least developed in the country. Most rural roads in these regions have not been properly rehabilitated since Hurricane Mitch. Despite Millennium Challenge Corporation-sponsored road projects in some of the more populous areas of eastern Chinandega Department along the Honduran border, rural feeder roads remain in poor condition. They remain impassible during the rainy season. A significant number of the 90 health centers and 400 health posts in isolated rural areas destroyed by Mitch have not been rebuilt. Some of the over 500 primary schools that suffered structural damage due to Mitch are still unusable.

In addition, more recent natural disasters have slowed the recovery from Hurricane Mitch. In September 2007, Hurricane Felix, a category 5 storm, struck the area affected by Hurricane Mitch and was followed by heavy rains and flooding. More than 20,450 homes, along with 100 schools, clinics, community centers, and churches were destroyed, and 130 people died. Tropical depression Alma followed in May 2008 and further exacerbated the damage caused by the earlier storms.

Nicaragua continues to suffer from chronic poverty and food insufficiencies, which have compounded recovery challenges. Environmental disasters have destroyed over 100,000 acres of crops. In addition, continued environmental disasters have damaged water supplies, leaving whole communities lacking potable water. According to the United Nations World Food Programme (WFP), these recurring environmental disasters destroyed the country's economic base. Approximately 48% of the population lives below the poverty line, and approximately 17% live in extreme poverty.

Nicaragua is also currently unable to handle adequately the return of thousands of its nationals who now have TPS in the United States, but no other immigration status. Their return would aggravate Nicaragua's deteriorating economy by increasing unemployment already exacerbated by the recent global economic crisis. Economic development has also been hindered and disrupted by electoral fraud and weak and poorly constructed infrastructure, such as the poor condition of rural roads. Nicaragua remains ill-equipped to handle adequately the return of Nicaraguans currently in the United States who are TPS beneficiaries.

Based on this review and after consultation with the appropriate Government agencies, the Secretary finds that:

• The conditions that prompted the January 5, 1999, designation of Nicaragua for TPS continue to be met. See section 244(b)(3)(A) of the Act, 8 U.S.C. 1254a(b)(3)(A).

• There continues to be a substantial, but temporary, disruption in living conditions in Nicaragua as the result of an environmental disaster. See section 244(b)(1)(B) of the Act, 8 U.S.C. 1254a(b)(1)(B).

• Nicaragua continues to be unable, temporarily, to adequately handle the return of its nationals (or aliens having no nationality who last habitually resided in Nicaragua). See section 244(b)(1)(B) of the Act, 8 U.S.C. 1254a(b)(1)(B).

• The designation of Nicaragua for TPS should be extended for an additional 18-month period. See section 244(b)(3)(C) of the Act, 8 U.S.C. 1254a(b)(3)(C).

• There are approximately 3,000 nationals of Nicaragua (or aliens having no nationality who last habitually resided in Nicaragua) who are eligible for TPS under this extended designation.

Notice of Extension of the TPS Designation of Nicaragua

By the authority vested in me as Secretary of Homeland Security under section 244 of the Act, 8 U.S.C. 1254a, I have determined after consultation with the appropriate government agencies that the conditions that prompted designation of Nicaragua for temporary protected status (TPS) on January 5, 1999, continue to be met. See section 244(b)(3)(A) of the Act, 8 U.S.C. 1254a(b)(3)(A). On the basis of this determination, I am extending the TPS designation of Nicaragua for 18 months from July 6, 2010, through January 5, 2012.

Janet Napolitano,
Secretary.

Required Application Forms and Application Fees to Register or Re-register for TPS

To register or re-register for TPS, an applicant must submit:

1. Form I-821, Application for Temporary Protected Status,

• You only need to pay the Form I-821 application fee if you are filing an application for late initial registration.

• You do not need to pay the Form I-821 fee for a re-registration; and

2. Form I-765, Application for Employment Authorization.

• If you are filing for re-registration, you must pay the Form I-765 application fee if you want an employment authorization document (EAD).

• If you are filing for late initial registration and want an EAD, you must pay the Form I-765 fee only if you are age 14 through 65. No EAD fee is required if you are under the age of 14 or over the age of 65 and filing for late initial TPS registration.

• You do not pay the Form I-765 fee if you are not requesting an EAD.

You must submit both completed application forms together. You may apply for application and/or biometrics fee waivers if you are unable to pay and you can provide proof through satisfactory supporting documentation. For more information on the application forms and application fees for TPS, please visit the USCIS Web site at http://www.uscis.gov.

Biometric Services Fee

Biometrics (such as fingerprints) are required for all applicants 14 years of age or older. Those applicants must submit a biometric services fee. For more information on the biometric services fee, please visit the USCIS Web site at http://www.uscis.gov.

Mailing Information

Mail your application for TPS to the proper address in Table 1:

Table 1—Mailing Addresses
If ... | Mail to ...
You are applying for re-registration through U.S. Postal Service | USCIS, Attn: TPS Nicaragua, P.O. Box 6943, Chicago, IL 60680-6943.
You are applying for the first time as a late initial registrant through U.S. Postal Service | USCIS, Attn: TPS Nicaragua, P.O. Box 6943, Chicago, IL 60680-6943.
You are using a Non-U.S. Postal Service delivery service for both re-registration and first time late initial registration | U.S. Citizenship and Immigration Services, Attn: TPS Nicaragua, 131 S. Dearborn—3rd Floor, Chicago, IL 60603-5517.
You were granted TPS by an Immigration Judge (IJ) or the Board of Immigration Appeals (BIA), and you wish to request an EAD or are re-registering for the first time | USCIS, Attn: TPS Nicaragua, P.O. Box 7332, Chicago, IL 60680-7332.

E-Filing

If you are re-registering for TPS during the re-registration period and you do not need to submit any supporting documents or evidence, you are eligible to file your applications electronically. For more information on e-filing, please visit the USCIS E-Filing Reference Guide at the USCIS Web site at http://www.uscis.gov.

Employment Authorization Document (EAD)

May I request an interim EAD at my local USCIS office?

No. USCIS will not issue interim EADs to TPS applicants and re-registrants at local offices.

Am I eligible to receive an automatic 6-month EAD extension from July 6, 2010, through January 5, 2011?

To receive an automatic 6-month extension of your EAD:

• You must be a national of Nicaragua (or an alien having no nationality who last habitually resided in Nicaragua) who has applied for and received an EAD under the designation of Nicaragua for TPS, and

• You have not had TPS withdrawn or denied.

This automatic extension is limited to EADs issued on Form I-766, Employment Authorization Document, bearing an expiration date of July 5, 2010. These EADs must also bear the notation “A-12” or “C-19” on the face of the card under “Category.”

What documents may a qualified individual show to his or her employer as proof of employment authorization and identity when completing Form I-9?

During the first six months of this extension, qualified individuals who have received a 6-month automatic extension of their EADs by virtue of this Federal Register notice may present their extended TPS-based EADs, as described above, to their employers as proof of identity and employment authorization through January 5, 2011. To minimize confusion over this extension at the time of hire or re-verification, qualified individuals may also present a copy of this Federal Register notice regarding the automatic extension of employment authorization documentation through January 5, 2011.

After January 5, 2011, TPS beneficiaries may present their EADs on Form I-766 with an extension date of January 5, 2012, to their employers as proof of employment authorization and identity. The EAD will bear the notation “A-12” or “C-19” on the face of the card under “Category.” After January 5, 2011, employers may not accept EADs that no longer have a valid date.

Employers should not request proof of Nicaraguan citizenship. Employers should accept the EADs as valid “List A” documents. Employers should not ask for additional Form I-9 documentation if presented with an EAD that has been automatically extended or a new valid EAD pursuant to this Federal Register notice, and the EAD reasonably appears on its face to be genuine and to relate to the employee. Employees also may present any other legally acceptable document or combination of documents listed on the Form I-9 as proof of identity and employment eligibility.

Note to Employers

Employers are reminded that the laws requiring employment eligibility verification and prohibiting unfair immigration-related employment practices remain in full force. This Notice does not supersede or in any way limit applicable employment verification rules and policy guidance, including those rules setting forth re-verification requirements. For questions, employers may call the USCIS Customer Assistance Office at 1-800-357-2099. Employers may also call the U.S. Department of Justice Office (DOJ) of Special Counsel for Immigration Related Unfair Employment Practices (OSC) Employer Hotline at 1-800-255-8155.

Note to Employees

Employees or applicants may call the OSC Employee Hotline at 1-800-255-7688 for information regarding the automatic extension. Additional information is available on the OSC Web site at http://www.justice.gov/crt/osc/.

[FR Doc. 2010-10619 Filed 5-4-10; 8:45 am]

BILLING CODE 9111-97-P